COMMITTEE FOR THE IMPLEMENTATION OF TEXTILE AGREEMENTS

Request for Public Comments on Commercial Availability Petition under the Andean Trade Promotion and Drug Eradication Act (ATPDEA)

March 13, 2006.

AGENCY: Committee for the Implementation of Textile Agreements (CITA)

ACTION: Request for public comments concerning a petition for a determination that certain nylon and polyester yarns cannot be supplied by the domestic industry in commercial quantities in a timely manner under the ATPDEA.

SUMMARY: On March 9, 2006, the Chairman of CITA received a petition from Encajes, S.A. Colombia, alleging that certain polyester and nylon yarns, classified in the Harmonized Tariff Schedule of the United States (HTSUS) in subheadings 5402.31.6000, 5402.62.000, and 5605.00.1000, cannot be supplied by the domestic industry in commercial quantities in a timely manner. The petition requests that apparel articles containing lace fabrics of such yarns be eligible for preferential treatment under the ATPDEA. CITA hereby solicits public comments on this request, in particular with regard to whether such yarns can be supplied by the domestic industry in commercial quantities in a timely manner. Comments must be submitted by March 30, 2006 to the Chairman, Committee for the Implementation of Textile Agreements, Room 3001, United States Department of Commerce, 14th and Constitution Avenue, NW. Washington, DC 20230.

FOR FURTHER INFORMATION CONTACT: Maria Dybczak, International Trade Specialist, Office of Textiles and Apparel, U.S. Department of Commerce, (202) 482-2582.

SUPPLEMENTARY INFORMATION:

Authority: Section 204 (b)(3)(B)(ii) of the ATPDEA; Presidential Proclamation 7616 of October 31, 2002, Executive Order 13277 of November 19, 2002, and the United States Trade Representative's Notice of Further Assignment of Functions of November 25, 2002.

BACKGROUND:

The ATPDEA provides for duty-free treatment for qualifying textile and apparel products. Such treatment is generally limited to products manufactured from yarns and fabrics formed in the United States or a beneficiary country. The ATPDEA also provides for quota- and duty-free treatment for apparel articles that are both cut (or knit-to-shape) and sewn or otherwise assembled in one or more beneficiary countries from fabric or yarn that is not formed in the United States, if it has been determined that such fabric or yarn cannot be supplied by the domestic industry in commercial quantities in a timely manner. In Executive Order No. 13191 (66 FR 7271) and pursuant to Executive Order No. 13277 (67 FR 70305) and the United States Trade Representative's Notice of Redelegation of Authority and Further Assignment of Functions (67 FR 71606), the President delegated to CITA the authority to determine whether yarns or fabrics cannot be supplied by the domestic industry in commercial quantities in a timely manner under the ATPDEA. On March 6, 2001, CITA published procedures that it will follow in considering requests (66 FR 13502).

On March 9, 2006, the Chairman of CITA received a petition from Encajes, S.A. Colombia, alleging that certain polyester and nylon yarns, as described below, cannot be supplied by the domestic industry in commercial quantities in a timely manner. It requests duty-free treatment under the ATPDEA for apparel articles that contain lace fabrics of such yarns that are cut, or knit-to-shape, and sewn in one or more ATPDEA beneficiary countries.

Description:

1. Mamilon Metallic Yarn, G-100 1/69 |
HTSUS subheading: | 5605.00.1000
Fiber Content: | 100% Metallic Covered in Polyester
Cut: | Flat
Color: | Silver and Gold
Yarn Size: | Silver- 115 denier; Gold - 126 denier
Yarn Type: | Flat, non-textured
Yarn width: | 25 microns
2. Cationic Polyester BR 305f96, 120 Ts (Rigid Poly) |
HTSUS subheading: | 5402.62.0000
Fiber Content: | 100% Cationic Polyester
Cut: | Trilobal
Color: | Bright
Yarn Type: | Flat, non-textured
Yarn Size: | 305 decitex, 96 filaments with 120 twists in “S” by meter
3. Cationic Polyester Bright Flat 2/78F48 dtex at 120 Ts |
HTSUS subheading: | 5402.62.0000
Fiber Content: | 100% Cationic Polyester
Cut: | Trilobal
Color: | Bright
Yarn Type: | Flat, non-textured
Yarn Size: | 78 decitex, 48 filaments, plied, with 120 twists in “S” by meter
4. Tactel Bright |
HTSUS subheading: | 5402.31.6000
Fiber Content: | 100% Polyamide 6.6 High Tenacity Nylon
Cut: | Trilobal
Color: | Bright
Yarn Type: | Textured
Yarn Size: | 312 decitex, 102 filaments, plied, with 450 twists in “S” by meter

CITA is soliciting public comments regarding this request, particularly with respect to whether these yarns can be supplied by the domestic industry in commercial quantities in a timely manner. Also relevant is whether other yarns that are supplied by the domestic industry in commercial quantities in a timely manner are substitutable for these yarns for purposes of the intended use. Comments must be received no later than March 30, 2006. Interested persons are invited to submit six copies of such comments or information to the Chairman, Committee for the Implementation of Textile Agreements, room 3100, U.S. Department of Commerce, 14th and Constitution Avenue, NW., Washington, DC 20230.

If a comment alleges that these yarns can be supplied by the domestic industry in commercial quantities in a timely manner, CITA will closely review any supporting documentation, such as a signed statement by a manufacturer of the yarn stating that it produces the yarn that is the subject of the request, including the quantities that can be supplied and the time necessary to fill an order, as well as any relevant information regarding past production.

CITA will protect any business confidential information that is marked “business confidential” from disclosure to the full extent permitted by law. CITA generally considers specific details, such as quantities and lead times for providing the subject product as business confidential. However, information such as the names of domestic manufacturers who were contacted, questions concerning the capability to manufacture the subject product, and the responses thereto should be available for public review to ensure proper public participation in the process. If this is not possible, an explanation of the necessity for treating such information as business confidential must be provided. CITA will make available to the public non-confidential versions of the request and non-confidential versions of any public comments received with respect to a request in room 3100 in the Herbert Hoover Building, 14th and Constitution Avenue, N.W., Washington, DC 20230. Persons submitting comments on a request are encouraged to include a non-confidential version and a non-confidential summary.

James C. Leonard III,
Chairman, Committee for the Implementation of Textile Agreements.

[FR Doc.06-2558 Filed 3-13-06; 1:02 pm]

BILLING CODE 3510-DS